DEPARTMENT OF AGRICULTURE

Food and Nutrition Service

Request for Information: Supplemental Nutrition Assistance Program (SNAP) High Performance Bonuses

AGENCY: Food and Nutrition Service (FNS), USDA.

ACTION: Notice.

SUMMARY: Congress allows the Secretary of the U.S. Department of Agriculture (Secretary) considerable discretion to establish criteria and standards for evaluating the performances of State agencies and to monetarily reward State agencies that improve or excel in the agency's administration of the Supplemental Nutrition Assistance Program (SNAP). The recently enacted Agricultural Act of 2014 (Act) includes changes to the performance bonus system. States are now required by statute to reinvest any SNAP bonuses in the SNAP program. As a complement to these changes, the Food and Nutrition Service (FNS) is soliciting ideas for performance criteria and standards for high and most improved performance from State agencies and organizations that represent State interests prior to issuance of any proposed rules regarding changes to the criteria in determining SNAP high performance bonuses. FNS announces in this notice a request for information about current performance measures and data collection capabilities possessed by SNAP State agencies; data and information needed to assess other areas of SNAP being considered for a future high or most improved performance bonuses; and suggestions for linking bonus categories to ensure winners in one category meet minimum performance standards in other categories in order to qualify for any high or most improved performance bonus. FNS will consider this information in developing a proposed rule to revise the current high or most improved performance bonus structure.

DATES: Written comments must be received on or before July 23, 2014.

ADDRESSES: Comments may be sent to Patrick Lucrezio, Chief, Program Accountability and Administration Division, Food and Nutrition Service (FNS), U.S. Department of Agriculture, 3101 Park Center Drive, Room 822, Alexandria, VA 22302. Comments may also be faxed to the attention of Mr. Lucrezio at (703) 305-2454, or via email to SNAPHQ-Web@FNS.USDA.GOV. Comments will also be accepted through the Federal eRulemaking Portal. Go to http://www.regulations.gov and follow the online instructions for submitting comments electronically.

All written comments will be open for public inspection at the FNS office located at 3101 Park Center Drive, Alexandria, Virginia, 22302, Room 800, during regular business hours (8:30 a.m. to 5:00 p.m., Monday through Friday).

All responses to this notice will be summarized and included in the request for Office of Management and Budget (OMB) approval. All comments will be a matter of public record.

FOR FURTHER INFORMATION CONTACT: Requests for additional information or copies of this request for information should be directed to Mr. Lucrezio at (703) 305-2498.

SUPPLEMENTARY INFORMATION: Section 16(d)(2)(A) of the Food and Nutrition Act of 2008 requires the Secretary to issue regulations to award a total of $48 million to States that demonstrate high or most improved performance in administering SNAP.

Section 16(d) of the Food and Nutrition Act of 2008 was amended by the Act to require that bonus monies had to be invested in the program established by the Food and Nutrition Act. While not an exclusive list, the Act specified areas where the bonus monies could be used. These areas included: investments in technology; improvements in administration and distribution; and actions to prevent fraud, waste and abuse. High or most improved performance bonus regulations at 7 CFR 275.24, currently provides four categories for SNAP bonus awards: payment accuracy, case and procedural error rates (formerly known as the negative error rates), program access index, and application processing timeliness. In order to address performance in other SNAP priority areas, FNS is considering changes to the current bonus structure. First, FNS is considering expanding the scope of performance bonuses to three new categories, employment and training; recipient integrity; and SNAP nutrition education. Second, FNS is considering how to address the concern that, in past years, some State agencies have received bonuses in some areas of SNAP, but have not performed well in other bonus category areas. Linking performance awards to a certain minimum level of performance in every category could avoid such inconsistencies.

With regards to the new categories, additional metrics would need to be developed as well as additional methods of determining performance, because not all categories under consideration are solely quantitative in nature. Some evaluation criteria may require using qualitative metrics. In light of these challenges, FNS welcomes all ideas that might contribute to developing a system to measure and award the best performance in these categories.

Per Section 16(d) (2)(A)(iii) of the Act, FNS must solicit information from State agencies and organizations that represent State interests on these issues before publishing a proposed regulation. In requesting ideas, FNS would like to remind responders that the Food and Nutrition Act specifies that $48 million are available for SNAP high or most improved performance bonuses and that payment accuracy bonuses are required by law. A change in the total bonus amount may only be made through an act of Congress.

In particular, FNS is seeking information on the following questions:

1. Do State agencies currently utilize or possess performance measurement methods or tools to evaluate new categories such as employment and training, recipient integrity, and SNAP nutrition education?

2. What evaluation tools should be developed in order to analyze new issue categories such as employment and training, recipient integrity, and SNAP nutrition education?

3. Are there any other areas of SNAP that should be considered as a possible category that is eligible for a high or most improved performance bonus?

4. What changes to the bonus system would States agencies suggest to ensure that minimum performance standards were met in all categories by awardees?

5. What minimum performance levels do States suggest for all high or most improved performance bonus categories, including those new categories under consideration by FNS?

6. How do States suggest that the $48 million be distributed among the current and new categories?

7. Do States suggest the elimination or changes in any of the current categories evaluated for performance: application timeliness, case and procedural error rate, and program access index?

8. Do States anticipate an increase in administrative expenditures or other impact if SNAP restructures its current high or most improved performance bonus system? If yes, please explain.

9. How much time would be required for State agencies to adjust their systems and reporting mechanisms in order to provide sufficient information to evaluate performance in the new categories of employment and training, recipient integrity, and SNAP nutrition education?

Dated: April 11, 2014.
Audrey Rowe,
Administrator, Food and Nutrition Service.

[FR Doc. 2014-09332 Filed 4-23-14; 8:45 am]

BILLING CODE 3410-30-P